DEPARTMENT OF COMMERCE

National Oceanic and Atmospheric Administration

[I.D. 010901C]

Marine Mammals: Draft Environmental Assessment on Allocating Gray Whales to the Makah Tribe for the years 2001 and 2002

AGENCY: National Marine Fisheries Service (NMFS), National Oceanic and Atmospheric Administration (NOAA), Commerce.

ACTION: Notice of availability and request for comments.

SUMMARY: NMFS announces the availability of a Draft Environmental Assessment (EA) that examines the environmental consequences of issuing the International Whaling Commission (IWC) quota for gray whales to the Makah Tribe for the years 2001 and 2002. NMFS has not identified a preferred alternative in this draft EA and is soliciting comments on the draft EA. The Draft EA considers four alternatives regarding the issuance of the IWC quota to the Makah Tribe.

DATES: Comments on the EA must be received by February 16, 2001. A public hearing on this draft EA will be held in Seattle, WA on Thursday, February 1, 2001, at 6:00 p.m. The public hearing will be held at the Sand Point Magnuson Park Auditorium, 74th Street Entrance, 7400 Sand Point Way NE, Seattle, Washington.

ADDRESSES: Comments on the draft EA should be addressed to Cathy E. Campbell, NOAA/NMFS, Office of Protected Resources, 13th Floor, 1315 East-West Hwy, Silver Spring, MD 20910. Mark the outside of the envelope with “Comments on Makah EA.” Comments received over the Internet or by electronic mail will not be accepted. Copies of the EA and directions to the public hearing may be obtained over the internet at http://www.nmfs.noaa.gov/prot_res/prot_res.html under “New Arrivals”.

FOR FURTHER INFORMATION CONTACT: Cathy Campbell, 301-713-2322.

SUPPLEMENTARY INFORMATION: Prior to the 1997 Annual International Whaling Commission (IWC) Meeting, NMFS formally analyzed the environmental impacts of a decision to support or not support whaling, and to determine whether an annual subsistence quota of up to five Eastern Pacific gray whales would significantly affect the quality of the human environment. A draft EA was distributed for public comment on August 22, 1997. After reviewing and addressing the comments received, NMFS issued a final EA and Finding of No Significant Impact on October 17, 1997.

At its 1997 annual meeting, the IWC approved a quota of 620 gray whales for an aboriginal subsistence harvest during the years 1998 through 2002. The basis for the quota was a joint request by the Russian Federation (for a total of 600 whales) and the United States (for a total of 20 whales). In 1998 and 1999, NOAA granted an allocation of up to five whales a year to the Makah Indian Tribe, whose subsistence and ceremonial needs had been the foundation of the U.S. request to the IWC.

U.S. Congressman Jack Metcalf, Breach Marine Protection, and several other plaintiffs brought a lawsuit, Metcalf v. Daley, in October 1997, alleging that the U.S. Government had violated the National Environmental Policy Act (NEPA), the Whaling Convention Act, and other statutes. In September 1998, the U.S. District Court for the Western District of Washington ruled in favor of the U.S. Government on all issues.

On June 9, 2000, the Ninth Circuit Court of Appeals overturned one aspect of that decision, ruling that the 1997 EA should have been completed before the U.S. and the Makah Tribe entered into a cooperative agreement. That agreement had provided that, if the Tribe prepared an adequate needs statement documenting a cultural and subsistence need to harvest gray whales, NOAA would request a quota of gray whales from the IWC. Two judges on a three-judge panel held that the timing of the EA, which was completed after the 1996 agreement was signed and before the 1997 annual meeting of the IWC, may have predisposed the preparers to find that the whaling proposal would not significantly affect the environment. The Court ordered NOAA to set aside that finding and comply with NEPA under circumstances that would ensure an objective evaluation of the environmental consequences of the gray whale harvest.

Following the Court action, NOAA rescinded its cooperative agreement with the Makah Tribe on August 11, 2000. NOAA subsequently set the gray whale quota for 2000 at zero (65 FR 75186, December 1, 2000), pending completion of its NEPA analysis.

The National Environmental Policy Act (NEPA) requires that federal agencies conduct an environmental analysis of their actions to determine if the actions may affect the environment. Accordingly, NMFS prepared a draft EA that explores the environmental consequences of four alternatives: (1) Granting the Makah Tribe the IWC quota with restrictions to target the hunt on migrating whales (similar to the 1999 regime); (2) Granting the Makah Tribe the IWC quota with restrictions that would allow a limited hunt on the gray whale summer feeding aggregation; (3) Granting the Makah Tribe the IWC quota without time-area restrictions; and (4) (No Action) - not granting the Makah Tribe the IWC quota.

The draft EA was prepared in accordance with NEPA and implementing regulations at 40 CFR parts 1500 through 1508 and NOAA guidelines concerning implementation of NEPA found in NOAA Administrative Order 216-6.

NMFS is soliciting public comments on this draft EA. Oral and written comments may be presented at the public hearing [see DATES and ADDRESSES]. Written comments on the draft EA may also be sent to the previously listed address by February 16, 2001. Further details or a copy of the EA can be obtained from the internet address above [see ADDRESSES].

Special Accommodations

The public hearing will be physically accessible to those with disabilities. Requests for sign language interpretation or other aids should be directed to C. Campbell at least 10 days prior to the hearing date (see ADDRESSES).

Dated: January 10, 2001.
Wanda L. Cain,
Acting Director, Office of Protected Resources, National Marine Fisheries Service.

[FR Doc. 01-1354 Filed 1-11-01; 3:33 pm]

BILLING CODE: 3510-22-S